EQUAL EMPLOYMENT OPPORTUNITY COMMISSION

Sunshine Act Notice

Agency Holding the Meeting: Equal Employment Opportunity Commission.

Federal Register Citation of Previous Announcement: 73 FR 26395, Friday, May 9, 2008.

Previously Announced Time and Date of Meeting: Tuesday, May 13, 2008, 10 a.m. (Eastern Time).

Change in the Meeting: The meeting has been cancelled.

Contact Person for More Information: Stephen Llewellyn, Executive Officer on (202) 663-4070.

Dated: May 12, 2008.
Stephen Llewellyn,
Executive Officer, Executive Secretariat.

[FR Doc. 08-1268 Filed 5-13-08; 1:35 pm]

BILLING CODE 6570-01-P